DEPARTMENT OF TRANSPORTATION

Surface Transportation Board

[Docket No. FD 35624]

Cleveland Harbor Belt Railroad—Operation Exemption—Cleveland-Cuyahoga County Port Authority

Cleveland Harbor Belt Railroad (CHB), a noncarrier, has filed a verified notice of exemption under 49 CFR 1150.31 to operate approximately one mile of terminal railroad trackage ¹ currently owned by Cleveland-Cuyahoga County Port Authority (the Port) ² and operated as exempt private trackage by CSX Transportation, Inc. (CSXT) and Norfolk Southern Railway (NS). CHB will replace the service formerly provided by CSXT and NS, and will be operating trackage over rail facilities that are currently being expanded by the Port as part of a vastly expanded port facility.³

¹ CHB states there are no mileposts on the line.

² Cleveland Commercial Railroad Company, LLC (CCR), and its wholly owned assignee, CHB, have filed a copy of the operating agreement with the Port, a noncarrier. See Anthony Macrie—Continuance in Control Exemption—N.J. Seashore Lines, Inc., FD 35296, slip op. at 3-4 (STB served Aug. 31, 2010).

³ CHB states that there are no agreements applicable to the line imposing any interchange commitments.

This transaction is related to a concurrently filed verified notice of exemption in Cleveland Commercial Railroad Company, LLC—Continuance in Control Exemption—Cleveland Harbor Belt Railroad, Docket No. FD 35623, in which CCR seeks to continue in control of CHB, upon CHB's becoming a Class III rail carrier.

The transaction may be consummated on or after June 7, 2012 (30 days after the notice of exemption was filed).

CHB certifies that its projected annual revenues as a result of this transaction will not result in CHB's becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions for stay must be filed no later than May 31, 2012 (at least 7 days before the exemption becomes effective).

An original and 10 copies of all pleadings, referring to Docket No. FD 35624, must be filed with the Surface Transportation Board, 395 E Street SW., Washington, DC 20423-0001. In addition, one copy of each pleading must be served on John D. Heffner, 1700 K Street NW., Suite 640, Washington, DC 20006.

Board decisions and notices are available on our Web site at www.stb.dot.gov.

Decided: May 21, 2012.
By the Board, Rachel D. Campbell, Director, Office of Proceedings.
Derrick A. Gardner,
Clearance Clerk.

[FR Doc. 2012-12712 Filed 5-23-12; 8:45 am]

BILLING CODE 4915-01-P